ENVIRONMENTAL PROTECTION AGENCY

40 CFR Part 62

[EPA-R01-OAR-2024-0462; FRL-12317-01-R1]

Approval and Promulgation of State Plans (Negative Declarations) for Designated Facilities and Pollutants: Maine and Massachusetts

AGENCY: Environmental Protection Agency (EPA).

ACTION: Direct final rule.

SUMMARY: The Environmental Protection Agency (EPA) is taking a direct final action to approve negative declarations in lieu of State plans to satisfy the requirements in the Emission Guidelines and Compliance Times for Commercial and Industrial Solid Waste Incineration Units for the State of Maine and the Commonwealth of Massachusetts. The negative declarations certify that the States do not have any existing sources within their jurisdictions that must comply with the rule.

DATES: This direct final rule will be effective December 10, 2024, unless EPA receives adverse comments by November 12, 2024. If adverse comments are received, EPA will publish a timely withdrawal of the direct final rule in the Federal Register informing the public that the rule will not take effect.

ADDRESSES: EPA has established a docket for this action under Docket Identification No. EPA-R01-OAR-2024-0462. All documents in the docket are listed on the https://www.regulations.gov website. Although listed in the index, some information is not publicly available, i.e., confidential business information (CBI) or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Jessica Kilpatrick, Air Permits, Toxics, and Indoor Programs Branch, Air and Radiation Division, U.S. Environmental Protection Agency, Region 1, 5 Post Office Square, APTB05-2, Boston, MA 02109-0287. Telephone: 617-918-1652. Fax: 617-918-0652 Email: kilpatrick.jessica@epa.gov.

SUPPLEMENTARY INFORMATION:

Table of Contents

I. Background

II. Commercial and Industrial Solid Waste Incineration Regulations

III. Final Action

IV. Statutory and Executive Order Reviews

I. Background

The Clean Air Act (CAA) delineates regulations for air pollution emissions that can adversely impact public health. Section 111(d) of the CAA sets standards of performance for existing sources of air pollution, specifically pertaining to the remaining useful life of a source. Air pollutants subject to this section are those which are not already regulated as air quality criteria pollutants via 42 U.S.C. 7408(a) or hazardous air pollutants via 42 U.S.C. 7412. Section 111(d) requires States to submit a plan to EPA for approval that establishes the standards of performance and provides for their implementation and enforcement. EPA prescribes a Federal plan in the cases that a State does not submit a State plan or the submitted State plan is disapproved. If a State has no designated facilities for a standards of performance source category, it may submit a negative declaration in lieu of a State plan for that source category according to 40 CFR 60.23(b) and 62.06.

II. Commercial and Industrial Solid Waste Incineration Regulations

The Emission Guidelines and Compliance Times for Commercial and Industrial Solid Waste Incineration Units at 40 CFR part 60, subpart DDDD (CISWI Emission Guidelines or subpart DDDD) regulate existing commercial and industrial solid waste incineration units (CISWIs) and air curtain incinerators (ACIs). A CISWI is defined at § 60.2875 as “any distinct operating unit of any commercial or industrial facility that combusts, or has combusted in the preceding 6 months, any solid waste as that term is defined in 40 CFR part 241.” The structure of a CISWI includes, but is not limited to, a solid waste feed system, a grate system, a flue gas system, a waste heat recovery equipment, if any, and bottom ash system. An ACI is defined at § 60.2875 as “an incinerator that operates by forcefully projecting a curtain of air across an open chamber or pit in which combustion occurs. Incinerators of this type can be constructed above or below ground and with or without refractory walls and floor.” Existing units are CISWIs and ACIs that: (1) commenced construction on or before November 30, 1999 and that were not modified or reconstructed after June 1, 2001; (2) commenced construction after November 30, 1999, but no later than June 4, 2010, or commenced modification or reconstruction after June 1, 2001 but no later than August 7, 2013; or (3) commenced construction on or before June 4, 2010, or commenced modification or reconstruction after June 4, 2010 but no later than August 7, 2013.

The air quality programs Administrator of a State subject to subpart DDDD must submit a State plan to EPA that implements the CISWI Emission Guidelines via § 60.2505. A State with no existing units is required to submit a negative declaration letter in place of the State plan in accordance with § 60.2510. The Maine Department of Environmental Protection (ME DEP) submitted a negative declaration to EPA on May 3, 2018, certifying that there are no existing sources in the State subject to the requirements of 40 CFR part 60, subpart DDDD. Likewise, the Massachusetts Department of Environmental Protection (MassDEP) submitted a negative declaration for subpart DDDD to EPA on December 18, 2018.

III. Final Action

EPA is approving the negative declarations submitted by ME DEP and MassDEP serving in lieu of their CAA 111(d) State plans for the CISWI Emission Guidelines to satisfy the requirements of §§ 60.23(b) and 62.06.

EPA is publishing this action without prior proposal because the Agency views this as a noncontroversial amendment and anticipates no adverse comments. However, in the Proposed Rules section of this Federal Register publication, EPA is publishing a separate document that will serve as the proposal to approve the negative declarations should relevant adverse comments be filed. This rule will be effective December 10, 2024 without further notice unless the Agency receives relevant adverse comments by November 12, 2024.

If EPA receives such comments, we will publish a document withdrawing the final rule and informing the public that the rule will not take effect. All public comments received will then be addressed in a subsequent final rule based on the proposed rule. EPA will not institute a second comment period on the proposed rule. All parties interested in commenting on the proposed rule should do so at this time. If no such comments are received, the public is advised that this rule will be effective on December 10, 2024 and no further action will be taken on the proposed rule. Please note that if EPA receives adverse comments on an amendment, paragraph, or section of this rule and if that provision may be severed from the remainder of the rule, EPA may adopt as final those provisions of the rule that are not the subject of adverse comments.

IV. Statutory and Executive Order Reviews

Under the CAA, the Administrator has the authority to approve a 111(d) negative declaration in lieu of a State plan that complies with the provisions of the CAA and applicable Federal regulations. See 40 CFR 62.06. In reviewing 111(d) negative declaration letters, EPA's role is to approve State choices, provided that they meet the criteria of the CAA and of EPA's implementing regulations. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

• Does not provide EPA with the discretionary authority to address, as appropriate, disproportionate human health or environmental effects, using practicable and legally permissible methods, under Executive Order 12898 (59 FR 7629, February 16, 1994).

In addition, this action does not apply on any Indian reservation land or in any other area where EPA or an Indian tribe has demonstrated that a tribe has jurisdiction. As such, it does not have Tribal implications as specified by Executive Order 13175 (65 FR 67249, November 9, 2000), nor will it impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 10, 2024. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section in this issue of the Federal Register, rather than file an immediate petition for judicial review of this direct final rule, so that EPA can withdraw this direct final rule and address the comment in the proposed rulemaking. This action may not be challenged later in proceedings to enforce its requirements. (See section 307(b)(2).)

List of Subjects in 40 CFR Part 62

Environmental protection, Administrative practice and procedure, Air pollution control, Industrial facilities, Intergovernmental relations, Reporting and recordkeeping requirements, Waste treatment and disposal.

Dated: October 2, 2024.
David Cash,
Regional Administrator, EPA Region 1.

For the reasons stated in the preamble, part 62 of chapter I, title 40 of the Code of Federal Regulations is amended as follows:

PART 62—APPROVAL AND PROMULGATION OF STATE PLAN FOR DESIGNATED FACILITIES AND POLLUTANTS

1. The authority citation for part 62 continues to read as follows:

Authority: 42 U.S.C. 7401 et seq.

2. Revise § 62.4980 to read as follows:

§ 62.4980 Identification of Plan—negative declaration.

On May 3, 2018, the Maine Department of Environmental Protection submitted a letter certifying no existing sources subject to 40 CFR part 60, subpart DDDD operate within the State's jurisdiction.

3. Revise § 62.5475 to read as follows:

§ 62.5475 Identification of Plan—negative declaration.

On December 18, 2018, the Massachusetts Department of Environmental Protection submitted a letter certifying no existing sources subject to 40 CFR part 60, subpart DDDD operate within the Commonwealth's jurisdiction.

[FR Doc. 2024-23172 Filed 10-10-24; 8:45 am]

BILLING CODE 6560-50-P